DEPARTMENT OF COMMERCE

National Oceanic and Atmospheric Administration

50 CFR Parts 600 and 660

[Docket No. 001226367-0367-01; I.D. 092801C]

Fisheries off the West Coast States and in the Western Pacific; Pacific Coast Groundfish Fishery; Trip Limit Adjustments; Correction

AGENCY: National Marine Fisheries Service (NMFS), National Oceanic and Atmospheric Administration (NOAA), Commerce.

ACTION: Correction to trip limit adjustments in the Pacific Coast groundfish fishery.

SUMMARY: This document corrects a section heading in the trip limit adjustments for the Pacific Coast groundfish fishery published on October 5, 2001.

DATES: Effective November 2, 2001.

FOR FURTHER INFORMATION CONTACT: Carrie Nordeen, Northwest Region, NMFS, 206-526-6140.

SUPPLEMENTARY INFORMATION: Changes to current management measures were recommended by the Pacific Fishery Management Council at its September 10-14, 2001, meeting in Portland, OR. Adjustments to trip limits were made to stay within the optimum yields and allocations announced in the 2001 annual specifications and management measures for the groundfish fishery, published in the Federal Register at 66 FR 2338 (January 11, 2001), as amended at 66 FR 10208 (February 14, 2001), at 66 FR 18409 (April 9, 2001), at 66 FR 22467 (May 4, 2001), at 66 FR 28676 (May 24, 2001), at 66 FR 35388 (July 5, 2001), at 66 FR 38162 (July 23, 2001), and at 66 FR 50851 (October 5, 2001).

Need for Correction

Trip limit adjustments published on October 5, 2001, contained an error in the section heading describing limit changes for groundfish taken with open access gear. This document corrects that error.

Correction

Accordingly, the rule, FR Doc. 01-25031, in the issue of Friday, October 5, 2001 (66 FR 50851), is corrected as follows:

1. On page 50858, in the first column, amendatory instruction 2. is corrected to read “2. In section IV., under C. Trip Limits in the Open Access Fishery, paragraphs (3) and (5) are revised to read as follows:”.

Dated: October 26, 2001.
Bruce Morehead,
Acting Director, Office of Sustainable Fisheries, National Marine Fisheries Service.

[FR Doc. 01-27634 Filed 11-1-01; 8:45 am]

BILLING CODE 3510-22-S